DEPARTMENT OF HOMELAND SECURITY

Coast Guard

[Docket No. USCG-2017-0507]

Lower Mississippi River Waterway Safety Advisory Committee; Vacancies

AGENCY: U.S. Coast Guard, Department of Homeland Security.

ACTION: Request for Applicants.

SUMMARY: The U.S. Coast Guard seeks applications for membership on the Lower Mississippi River Waterway Safety Advisory Committee. The Lower Mississippi River Waterway Safety Advisory Committee advises and makes recommendations to the Department of Homeland Security on a wide range of matters regarding all facets of navigation safety related to the Lower Mississippi River.

DATES: Completed applications should be submitted to the U.S. Coast Guard on or before September 18, 2017.

ADDRESSES: Applicants should send a cover letter expressing interest in an appointment to the Lower Mississippi River Waterway Safety Advisory Committee that also identifies which membership category the applicant is applying under, along with a resume detailing the applicant's experience via one of the following methods:

• By E-MAIL: brian.j.porter@uscg.mil, Subject line: The Lower Mississippi River Waterway Safety Advisory Committee.

• By Fax: (504)365-2287 ATTN: Lieutenant Brian Porter, Alternate Designated Federal Officer; or

• By Mail: Lieutenant Brian Porter, Alternate Designated Federal Officer, 200 Hendee Street, New Orleans, Louisiana, 70114.

FOR FURTHER INFORMATION CONTACT: Lieutenant Brian Porter, Alternate Designated Federal Officer of the Lower Mississippi River Waterway Safety Advisory Committee; telephone (504) 365-2375 or Email at brian.j.porter@uscg.mil.

SUPPLEMENTARY INFORMATION: The Lower Mississippi River Waterway Safety Advisory Committee is a federal advisory committee established and operating under the authority found in section 19 of the Coast Guard Authorization Act of 1991, (Public Law 102-241) as amended by section 621 of the Coast Guard Authorization Act of 2010 (Public Law 111-281). This Committee operates in accordance with the provisions of the Federal Advisory Committee Act (Title 5, U.S C., Appendix).

The Lower Mississippi River Waterway Safety Advisory Committee advises the U.S. Coast Guard on matters relating to communications, surveillance, traffic management, anchorages, development and operation of the New Orleans Vessel Traffic Service, and other related topics dealing with navigation safety on the Lower Mississippi River as required by the U.S. Coast Guard.

The Committee expects to meet at least two times annually. It may also meet for extraordinary purposes with the approval of the Designated Federal Officer. Each member serves for a term of 2 years. Members serve a maximum of two consecutive terms. All members serve at their own expense and receive no salary or other compensation from the Federal Government; however members may be reimbursed for travel and per diem.

We will consider applications for 25 positions that expire or become vacant on May 23, 2018. To be eligible, you should have experience regarding the transportation, equipment, and techniques that are used to ship cargo and to navigate vessels on the Lower Mississippi River and its connecting navigable waterways, including the Gulf of Mexico. The 25 positions available for application are as follows:

1. Five members representing River Port authorities between Baton Rouge, Louisiana, and the Head of Passes of the Lower Mississippi River, of which one member shall be from the Port of St. Bernard and one member from the Port of Plaquemines.

2. Two members representing vessel owners domiciled in the state of Louisiana.

3. Two members representing organizations which operate harbor tugs or barge fleets in the geographical area covered by the committee.

4. Two members representing companies which transport cargo or passengers on the navigable waterways in the geographical area covered by the Committee.

5. Three members representing State Commissioned Pilot organizations, with one member each representing the New Orleans-Baton Rouge Steamship Pilots Association, the Crescent River Port Pilots Association, and the Associated Branch Pilots Association.

6. Two at-large members who utilize water transportation facilities located in the geographical area covered by the committee.

7. Three members, each of which represents one of three categories: consumers, shippers, and importers-exporters that utilize vessels which utilize the navigable waterways covered by the committee.

8. Two members representing those licensed merchant mariners, other than pilots, who perform shipboard duties on those vessels which utilize navigable waterways covered by the committee.

9. One member representing an organization that serves in a consulting or advisory capacity to the maritime industry.

10. One member representing an environmental organization.

11. One member representing the general public.

12. One member representing the Associated Federal Pilots and Docking Masters of Louisiana.

To be eligible, you should have experience regarding the transportation, equipment, and techniques that are used to ship cargo and navigate waterways, including the Gulf of Mexico.

Registered lobbyists are not eligible to serve on federal advisory committees in an individual capacity. See “Revised Guidance on Appointment of Lobbyists to Federal Advisory Committees, Boards and Commissions” (79 FR 47482, August 13, 2014).

The positions referred to in (1), (2), (3), (4), (5), (7), (8), (9), (10), and (12) are representatives.

The positions referred to in (6), and (11) are designated as a Special Government Employee as defined in Section 202(a), Title 18, U.S.C.

Applicants for appointment as a Special Government Employee are required to complete a Confidential Financial Disclosure Report (OGE Form 450). The U.S. Coast Guard may not release the reports or the information in them to the public except under an order issued by a Federal court or as otherwise provided under the Privacy Act (5 U.S.C. 552a). Applicants can obtain this form by going to the Web site of the Office of Government Ethics (www.oge.gov) or by contacting the individual listed above in FOR FURTHER INFORMATION CONTACT.

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment actions.

If you are interested in applying to become a member of the Committee, send your cover letter and resume to Lieutenant Brian Porter, Alternate Designated Federal Officer of the Lower Mississippi River Waterway Safety Advisory Committee via one of the transmittal methods in the ADDRESSES section by the deadline in the DATES section of this notice. All email submittals will receive email receipt confirmation.

Dated: July 11, 2017.
D.R. Callahan,
Rear Admiral, U.S. Coast Guard, Commander, Eighth Coast Guard District.

[FR Doc. 2017-15162 Filed 7-18-17; 8:45 am]

BILLING CODE 9110-04-P